DEPARTMENT OF ENERGY

Orders Granting Authority To Import and Export Natural Gas, To Import Liquefied Natural Gas, To Export Liquefied Natural Gas and Vacating Prior Authority During December 2012

| FE Docket Nos.
DIAMOND CAPITAL INTERNATIONAL, LLC | 12-33-NG
ACCESS GAS SERVICES (ONTARIO) INC. | 12-118-NG
MONTANA-DAKOTA UTILITIES COMPANY | 12-119-NG
BP ENERGY COMPANY | 12-127-NG
ATLANTIC POWER ENERGY SERVICES (U.S.) LLC | 12-145-NG
ACTIVE ENERGY CORP | 12-147-NG
TRANSCANADA POWER MARKETING LTD. | 12-149-NG
WALLER LNG SERVICES, LLC d/b/a WALLER POINT LNG | 12-152-LNG
TEXAS EASTERN TRANSMISSION, L.P. | 12-153-NG
SPRAGUE OPERATING RESOURCES LLC | 12-154-NG
INTEGRYS ENERGY SERVICES, INC. | 12-157-NG
POWEREX CORP. | 12-159-NG
ALASKA PIPELINE COMPANY | 12-160-NG
ENERGIA CHIHUAHUA, S.A. DE C.V. | 12-162-NG
MEXICANA DE COBRE, S.A. DE C.V. | 12-163-NG
ARIZONA PUBLIC SERVICE | 12-165-NG
CHENIERE MARKETING, LLC | 12-166-NG
TRANSALTA ENERGY MARKETING CORP. | 12-167-NG
GDF SUEZ GAS NA LLC | 12-171-LNG
CASTLETON COMMODITIES MERCHANT TRADING L.P. | 12-177-NG

AGENCY: Office of Fossil Energy, Department of Energy (DOE).

ACTION: Notice of orders.

SUMMARY: The Office of Fossil Energy (FE) of the Department of Energy gives notice that during December 2012, it issued orders granting authority to import and export natural gas and liquefied natural gas and vacating prior authority. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on March 20, 2013.
John A. Anderson,
Manager, Natural Gas Regulatory Activities, Office of Oil and Gas Global Security and Supply, Office of Fossil Energy.

Appendix—DOE/FE Orders Granting Import/Export Authorizations
Order No. | Date issued | FE Docket No. | Authorization holder | Description of action
3194 | 12/03/12 | 12-118-NG | Access Gas Services (Ontario) Inc | Order granting blanket authority to import/export natural gas from/to Canada.
3195 | 12/03/12 | 12-119-NG | Montana-Dakota Utilities Company | Order granting blanket authority to import natural gas from Canada.
3196 | 12/03/12 | 12-127-NG | BP Energy Company | Order granting blanket authority to import/export natural gas from/to Canada/Mexico.
3197 | 12/03/12 | 12-145-NG | Atlantic Power Energy Services (US) LLC | Order granting blanket authority to import/export natural gas from/to Canada.
3198 | 12/03/12 | 12-147-NG | Active Energy Corp | Order granting blanket authority to import/export natural gas from/to Canada.
3199 | 12/03/12 | 12-149-NG | TransCanada Power Marketing Ltd. | Order granting blanket authority to import natural gas from Canada.
3200 | 12/03/12 | 12-153-NG | Texas Eastern Transmission, LP | Order granting blanket authority to import/export natural gas from/to Mexico.
3201 | 12/03/12 | 12-154-NG | Sprague Operating Resources LLC | Order granting blanket authority to import natural gas from Canada.
3202 | 12/03/12 | 12-157-NG | Integrys Energy Services, Inc | Order granting blanket authority to import/export natural gas from/to Canada.
3203 | 12/03/12 | 12-159-NG | Powerex Corp | Order granting blanket authority to import/export natural gas from/to Canada/Mexico, and to import LNG from various international sources by vessel.
3204 | 12/03/12 | 12-160-NG | Alaska Pipeline Company | Order granting blanket authority to import natural gas from Canada.
3205 | 12/03/12 | 12-162-NG | Energia Chihuahua, S.A. de C.V | Order granting blanket authority to export natural gas to Mexico.
3206 | 12/03/12 | 12-163-NG | Mexicana de Cobre, S.A. de C.V | Order granting blanket authority to export natural gas to Mexico and vacating prior authority in DOE/FE Order No. 2929.
3207 | 12/03/12 | 12-165-NG | Arizona Public Service | Order granting blanket authority to import/export natural gas from/to Mexico.
3208 | 12/03/12 | 12-166-NG | Cheniere Marketing, LLC | Order granting blanket authority to import/export natural gas from/to Canada/Mexico, and to import LNG from various international sources by vessel, and to export LNG to Canada/Mexico by vessel/truck.
3209 | 12/03/12 | 12-167-NG | TransAlta Energy Marketing Corp | Order granting blanket authority to import/export natural gas from/to Canada.
3210 | 12/03/12 | 12-171-NG | GDF Suez Gas NA LLC | Order granting blanket authority to import LNG from various international sources.
3087-A | 12/03/12 | 12-33-NG | Diamond Capital International, LLC | Order vacating blanket authority to import/export natural gas from/to Canada/Mexico, and to import LNG from various international sources by vessel, and to export LNG to Canada/Mexico by vessel/truck.
3211 | 12/20/12 | 12-152-LNG | Waller LNG Services, LLC d/b/a Waller Point LNG | Order granting long-term multi-contract authority to export LNG by vessel from the Waller Point LNG Terminal in Cameron Parish, Louisiana, to Free Trade Agreement nations.
3212 | 12/28/12 | 12-177-NG | Castleton Commodities Merchant Trading L.P | Order granting blanket authority to import/export natural gas from/to Canada/Mexico.

[FR Doc. 2013-07626 Filed 4-1-13; 8:45 am]

BILLING CODE 6450-01-P